NUCLEAR REGULATORY COMMISSION

10 CFR Parts 50 and 52

RIN 3150-AJ68

[NRC-2015-0225]

Emergency Preparedness for Small Modular Reactors and Other New Technologies

AGENCY: Nuclear Regulatory Commission.

ACTION: Proposed rule and guidance; correction.

SUMMARY: The Nuclear Regulatory Commission (NRC) is correcting a proposed rule that appeared in the Federal Register on May 12, 2020. The NRC is proposing to amend its regulations to include new alternative emergency preparedness requirements for small modular reactors and other new technologies, such as non-light-water reactors and certain non-power production or utilization facilities. This action is necessary to correct a definition.

DATES: Effective May 29, 2020.

ADDRESSES: You may submit comments by any of the following methods (unless this document describes a different method for submitting comments on a specific subject):

• Federal Rulemaking Website: Go to https://www.regulations.gov and search for Docket ID NRC-2015-0225. Address questions about NRC dockets to Carol Gallagher; telephone: 301-415-3463; email: Carol.Gallagher@nrc.gov. For technical questions contact the individuals listed in the FOR FURTHER INFORMATION CONTACT section of this document.

• Email comments to Rulemaking.Comments@nrc.gov. If you do not receive an automatic email reply confirming receipt, then contact us at 301-415-1677.

• Mail comments to: Secretary, U.S. Nuclear Regulatory Commission, Washington, DC 20555-0001, ATTN: Rulemakings and Adjudications Staff.

For additional direction on obtaining information and submitting comments, see “Obtaining Information and Submitting Comments” in the SUPPLEMENTARY INFORMATION section of this document.

FOR FURTHER INFORMATION CONTACT: Robert Beall, Office of Nuclear Material Safety and Safeguards, U.S. Nuclear Regulatory Commission, Washington DC 20555; telephone: 301-415-3874; email: Robert.Beall@nrc.gov; or Eric Schrader, Office of Nuclear Security and Incident Response; telephone: 301-287-3789; email: Eric.Schrader@nrc.gov; both are staff of the U.S. Nuclear Regulatory Commission, Washington, DC 20555-0001.

SUPPLEMENTARY INFORMATION: The NRC published a proposed rule in the Federal Register on May 12, 2020 (85 FR 28436), to amend its regulations to create an alternative emergency preparedness framework for small modular reactors and other new technologies.

On page 28460, in the first column, second paragraph, fourth line correct the definition “Non-power production or utilization facility” to read as follows: Non-power production or utilization facility means a production or utilization facility, licensed under § 50.21(a) or (c), or § 50.22, as applicable, that is not a nuclear power reactor or a production facility as defined under paragraphs (1) and (2) of the definition of Production facility in this section.

Dated May 20, 2020.
For the Nuclear Regulatory Commission.
Pamela J. Shepherd-Vladimir,
Acting Chief, Regulatory Analysis and Rulemaking Support Branch, Division of Rulemaking, Environmental, and Financial Support, Office of Nuclear Material Safety and Safeguards.

[FR Doc. 2020-11228 Filed 5-28-20; 8:45 am]

BILLING CODE 7590-01-P